DEPARTMENT OF COMMERCE

National Oceanic and Atmospheric Administration

RIN 0648-XD342

Endangered and Threatened Species; Take of Anadromous Fish

AGENCY: National Marine Fisheries Service (NMFS), National Oceanic and Atmospheric Administration (NOAA), Commerce.

ACTION: Notice of availability and request for comment.

SUMMARY: Notice is hereby given that NMFS has prepared a draft supplemental environmental assessment under the National Environmental Policy Act (NEPA) of the potential effects of the operation of five Hatchery and Genetic Management Plans (plans) specifying the propagation of five species of salmon and steelhead in the Elwha River of Washington state. The plans were prepared and submitted jointly by the Lower Elwha Klallam Tribe and the Washington Department of Fish and Wildlife (WDFW). All comments and other information received will become part of the public record and will be available for review pursuant to section 10(c) of the ESA.

DATES: Comments and other submissions must be received at the appropriate address or fax number (see ADDRESSES) no later than 5 p.m. Pacific time on July 21, 2014.

ADDRESSES: Written responses to the draft supplemental environmental assessment should be sent to Allyson Purcell, National Marine Fisheries Services, Sustainable Fisheries Division, 1201 N.E. Lloyd Boulevard, Suite 1100, Portland, OR 97232. Comments may also be submitted by email to: ElwhaHatcheries.wcr@noaa.gov. Include in the subject line of the email comment the following identifier: Comments on the Elwha Hatcheries Assessment. When commenting on the draft supplemental environmental assessment, please refer to the specific page number and line number of the subject of your comment. Comments may also be sent via facsimile (fax) to (503) 872-2737. Requests for copies of the draft supplemental environmental assessment should be directed to the National Marine Fisheries Services, Sustainable Fisheries Division, 1201 N.E. Lloyd Boulevard, Suite 1100, Portland, OR 97232. The documents are also available on the Internet at www.westcoast.fisheries.noaa.gov. Comments received will also be available for public inspection, by appointment, during normal business hours by calling (503) 230-5418.

FOR FURTHER INFORMATION CONTACT: Allyson Purcell at (503) 736-4736 or email: allyson.purcell@noaa.gov.

SUPPLEMENTARY INFORMATION:

Species Covered in This Notice

Chinook salmon (Oncorhynchus tshawytscha): endangered, naturally produced and artificially propagated Upper Columbia River spring-run.

Steelhead (Oncorhynchus mykiss): threatened, naturally produced and artificially propagated Upper Columbia.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

The Lower Elwha Klallam Tribe and the WDFW submitted plans to NMFS for five jointly operated hatchery programs in the Elwha River basin. The plans were submitted pursuant to limit 6 of the ESA 4(d) Rule for the listed Puget Sound Chinook salmon evolutionarily significant unit (ESU) and listed Puget Sound steelhead distinct population segment (DPS). Two of the hatchery programs release ESA-listed Chinook salmon and steelhead, and three hatchery programs release non-ESA listed coho, fall chum, and pink salmon into the Elwha River watershed. All of the programs are currently operating, and all five hatchery programs raise fish native to the Elwha River basin. The current draft supplemental environmental assessment was prepared to more clearly describe the potential effects of an alternative involving production levels substantially reduced from those described in the plans.

Authority

NEPA requires Federal agencies to conduct an environmental analysis of their proposed actions to determine if the actions may affect the human environment. Therefore, NMFS is seeking public input on the scope of the required NEPA analysis, including the range of reasonable alternatives and associated impacts of any alternatives.

Dated: June 16, 2014.
Angela Somma,
Chief, Endangered Species Division, Office of Protected Resources, National Marine Fisheries Service.

[FR Doc. 2014-14433 Filed 6-19-14; 8:45 am]

BILLING CODE 3510-22-P